OFFICE OF THE UNITED STATES TRADE REPRESENTATIVE

Request for Comments on Whether Particular Exclusions in the Section 301 Investigation of China's Acts, Policies, and Practices Related to Technology Transfer, Intellectual Property, and Innovation Warrant Further Extension

AGENCY: Office of the United States Trade Representative (USTR).

ACTION: Notice and request for comments.

SUMMARY: In prior notices, the U.S. Trade Representative modified the actions in the Section 301 investigation of China's acts, policies, and practices related to technology transfer, intellectual property, and innovation by excluding from additional duties certain products of China. There are currently 178 effective exclusions. USTR has extended these exclusions several times, including by providing a recent 90-day extension to further extend the exclusions through November 29, 2025. USTR invites public comment on whether any of the 178 effective exclusions warrant further extension beyond November 29, 2025.

DATES:

September 16, 2025, at 12:01 a.m. EDT: The public docket on the web portal at https://comments.USTR.gov will open for parties to submit comments on whether particular exclusions warrant further extension.

October 16, 2025, at 11:59 p.m. EDT: To be assured of consideration, submit written comments on the public docket by this date.

ADDRESSES: You must submit all comments through the online portal: https://comments.ustr.gov/.

FOR FURTHER INFORMATION CONTACT: For general questions about this notice, contact Senior Associate General Counsel Philip Butler at (202) 395-5725. For specific questions on customs classification or implementation of the product exclusions, contact traderemedy@cbp.dhs.gov.

SUPPLEMENTARY INFORMATION:

A. Background

On December 29, 2023, USTR invited the public to submit comments on whether to extend 352 previously reinstated exclusions and 77 COVID-related exclusions. See 88 FR 90225 (December 29, 2023) (the December 29, 2023 notice). On May 30, 2024, USTR announced the extension of 164 of these exclusions through May 31, 2025. See 89 FR 46948 (May 30, 2024) (the May 30, 2024 notice). For additional background on the reinstated exclusions and the COVID-related exclusions, see previous notices issued in the investigation, including the December 29, 2023 notice.

In connection with the four-year review, on September 18, 2024, USTR announced fourteen exclusions covering certain solar manufacturing equipment. See 89 FR 76581 (September 18, 2024) (the September 18, 2024 notice). The fourteen exclusions were effective from January 1, 2024, through May 31, 2025. For additional background on the four-year review, see previous notices issued in the investigation, including the September 18, 2024 notice.

On May 31, 2025, USTR announced the further extension of the 164 exclusions extended in the May 30, 2024 notice and the extension of the fourteen exclusions granted in the September 18, 2024 notice, through August 31, 2025. See 90 FR 23987 (June 5, 2025) (the June 5, 2025 notice). On September 2, 2025, these 178 exclusions were further extended for 90 days, through November 29, 2025. See 90 FR 42500 (September 2, 2025) (the September 2, 2025 notice).

B. Whether Particular Exclusions Warrant Further Extension

USTR invites public comments on whether any of the 178 exclusions extended through November 29, 2025, warrant further extension. USTR will evaluate whether each exclusion warrants further extension on a case-by-case basis. The focus of the evaluation will be on the availability of products covered by the exclusion from sources outside of China, efforts undertaken to source products covered by the exclusion from the United States or third countries, why additional time is needed, and whether further extending the exclusion will likely contribute to a shift in sourcing the product outside of China. In addition, USTR will consider whether further extending the exclusion is consistent with the Administration's priorities and how further extending the exclusion will impact U.S. interests, including the overall impact of the exclusion on the goal of obtaining the elimination of China's acts, policies, and practices covered in the Section 301 investigation.

C. Procedures To Comment on Particular Exclusions

The 164 reinstated exclusions can be found in the Annex of the May 30, 2024 notice and the fourteen exclusions covering certain solar manufacturing equipment can be found in the Annex of the September 18, 2024 notice. For ease of reference, USTR is also posting a list of the 178 exclusions at http://comments.USTR.gov. As noted above, the public docket on the portal will be open from September 16, 2025 to October 16, 2025. Fields on the comment form marked with an asterisk (*) are required fields. Fields with gray (BCI) notation are for business confidential information, which will not be publicly available. Fields with a green (Public) notation will be publicly available. Additionally, interested persons will be able to upload documents to supplement their comments. Commenters will be able to review the public version of their comments before they are posted. Set forth below is a summary of the information to be entered on the exclusion comment form.

• Contact information, including the full legal name of the organization making the comment, whether the commenter is a third party (e.g., law firm, trade association or customs broker) submitting on behalf of an organization or industry, and the name of the third-party organization, if applicable.

• The exclusion covered by the comment.

• Whether the exclusion warrants further extension.

• The availability of products covered by the exclusion from sources outside of China.

• Efforts undertaken to source the product from the United States or third countries.

• Why additional time is needed to shift sourcing from China and whether further extending the exclusion will likely contribute to a shift in sourcing of the product outside of China.

• Whether further extending the exclusion is consistent with the Administration's priorities and U.S. interests.

D. Submission Instructions

You must submit all comments through the online portal: https://comments.ustr.gov/. To be assured of consideration, you must submit your comment when the public docket on the portal is open—from September 16, 2025, to October 16, 2025. Interested persons seeking to comment on more than one exclusion must submit a separate comment for each exclusion. By submitting a comment, the commenter certifies that the information provided is complete and correct to the best of their knowledge.

Philip Butler,
Senior Associate General Counsel, Chair, Section 301 Committee, Office of the United States Trade Representative.

[FR Doc. 2025-17894 Filed 9-15-25; 8:45 am]

BILLING CODE 3390-F4-P